NATIONAL AERONAUTICS AND SPACE ADMINISTRATION

[Notice (09-014)]

Privacy Act of 1974; Privacy Act System of Records

AGENCY: National Aeronautics and Space Administration (NASA).

ACTION: Notice of Privacy Act system of records.

SUMMARY: NASA provides this required information for a new system of records related to NASA's aeronautics scholarship program. The aeronautics scholarship program offers undergraduate and graduate level scholarships for students pursuing degrees in aeronautics related disciplines to improve the future aerospace workforce. In part the collection of this data is congressionally mandated as stated in 42 U.S.C. 16741, Public Law 109-155, Title IV, 431, Dec. 30, 2005, 119 Stat. 2927, NASA Aeronautics Scholarships (for graduate level scholarships), to better serve the aerospace community and the country in support of expanding the requirements of graduate masters level scholarships to include undergraduate, masters and doctoral level scholarships. The information provided will be used in the selection of students for the aeronautics scholarship program and for subsequent administration of the aeronautics scholarship program including the tracking of funding of the scholarships.

DATES: Submit comments on or before 60 calendar days from the date of this publication.

ADDRESSES: NASA Privacy Act Officer, Patti Stockman, 202-358-4787, NASA-PAOfficer@nasa.gov.

FOR FURTHER INFORMATION CONTACT: Patti Stockman, Office of the Chief Information Officer, NASA Headquarters, 300 E Street, SW., Washington, DC 20546-0001, 202-358-4787, NASA-PAOfficer@nasa.gov.

SUPPLEMENTARY INFORMATION: Pursuant to Section 208 of the E-Government Act of 2002, NASA has conducted a Privacy Impact Assessment (PIA) for this system. A copy of the PIA can be obtained by contacting the NASA Privacy Act Officer at the address listed below.

System Number: NASA 10NASP.

System Name: NASA Aeronautics Scholarship Program.

Security Classification: None.

System Location: The American Society for Engineering Education (ASEE) 1818 N. Street, NW., Suite 600, Washington, DC 20036 and location 1 as set forth in Appendix A.

Categories of Individuals Covered by the System

Non-NASA individuals, typically college students, applying for or selected for the Aeronautics Scholarship Program.

Categories of Records in the System

Records in the system include identifying information about scholarship applicants and recipients, including name, social security number, bank account and routing number information, bank address, date of birth, citizenship, mailing address, e-mail address, telephone, academic records, and Graduate Record Examination (GRE) scores, research proposal, and personal references.

Authority for Maintenance of the System

NASA Aeronautics Scholarships (for graduate level scholarship), 42 U.S.C. 16741, Public Law 109-155, title IV, 431, Dec. 30, 2005, 119 Stat. 2927; National Aeronautics and Space Act of 1958, as amended, 42 U.S.C. 2473; Federal Records Act of 1950, as amended, 44 U.S.C. 3101; 5 U.S.C. 4101 et seq.

Routine Uses of Records Maintained in the System, Including Categories of Users and the Purpose of Such Uses

1. Records from this system may be disclosed to authorized contractors who are responsible for administration of the scholarship program, including facilitation of the award selection process, issuance of award payments, maintenance of records, and other functions supporting the operation of the program.

2. Records from this system in the form of scholarship recipients' names and college affiliations will be made available to the public via the Internet to publicize the winners of NASA scholarship awards.

3. NASA standard routine uses 1 through 6 as set forth in Appendix B.

Policies and Practices for Storing, Retrieving, Accessing, Retaining and Disposing of Records in the System

Storage

Stored on a secure server as electronic records. Printed reports from the system are maintained in locked rooms or file cabinets.

Retrievability

By the individual's name, identification number, social security number bank routing number, zip code, institution, state or grade level.

Safeguards

Access is limited to ASEE authorized personnel only on a need-to-know basis. Computerized records are protected via limited user accounts with secure user authentication and non-electronic records are maintained in locked rooms or files. Functional user roles are established and access is limited based upon these roles. An IT Security analysis of the system was conducted as required by FIPS 199 and applicable security controls implemented in accordance with Federal Information Processing Standard (FIPS) 853.

Retention and Disposal

Records are retained and dispositioned in accordance with the guidelines defined in NASA Procedural Requirements (NPR) 1441.1 and NASA Records Retention Schedules, Schedule 1, item 32.

System Manager and Address

System Manager, Aeronautics Scholarship Program, Aeronautics Research Mission Directorate, Appendix A, Location 1.

Notification Procedure

Individuals interested in inquiring about their records should notify the System Manager at the address given above.

Record Access Procedures

Individuals interested in inquiring about their records should notify the System Manager at the address given above.

Contesting Record Procedures

The NASA regulations for access to records and for contesting contents and appealing initial determinations by the individual concerned appears in 14 CFR part 1212.

Record Source Categories

The information is obtained directly from the individual program applicants.

Exemptions Claimed for the System

None.

Bobby L. German,
Acting NASA Chief Information Officer.

Appendix A

Location Numbers and Mailing Addresses of NASA Installations at Which Records Are Located

Location 1

NASA Headquarters, National Aeronautics and Space Administration Washington, DC 20546-0001.

Location 2

Ames Research Center, National Aeronautics and Space Administration, Moffett Field, CA 94035-1000.

Location 3

Dryden Flight Research Center, National Aeronautics and Space Administration, P.O. Box 273, Edwards, CA 93523-0273.

Location 4

Goddard Space Flight Center, National Aeronautics and Space Administration, Greenbelt, MD 20771-0001.

Location 5

Lyndon B. Johnson Space Center, National Aeronautics and Space Administration, Houston, TX 77058-3696.

Location 6

John F. Kennedy Space Center, National Aeronautics and Space Administration, Kennedy Space Center, FL 32899-0001.

Location 7

Langley Research Center, National Aeronautics and Space Administration, Hampton, VA 23681-2199.

Location 8

John H. Glenn Research Center at Lewis Field, National Aeronautics and Space Administration, 21000 Brookpark Road, Cleveland, OH 44135-3191.

Location 9

George C. Marshall Space Flight Center, National Aeronautics and Space Administration, Marshall Space Flight Center, AL 35812-0001.

Location 10

HQ NASA Management Office-JPL, National Aeronautics and Space Administration, 4800 Oak Grove Drive, Pasadena, CA 91109-8099.

Location 11

John C. Stennis Space Center, National Aeronautics and Space Administration, Stennis Space Center, MS 39529-6000.

Location 12

JSC White Sands Test Facility, National Aeronautics and Space Administration, P.O. Drawer MM, Las Cruces, NM 88004-0020.

Location 13

GRC Plum Brook Station, National Aeronautics and Space Administration, Sandusky, OH 44870.

Location 14

MSFC Michoud Assembly Facility, National Aeronautics and Space Administration, P.O. Box 29300, New Orleans, LA 70189.

Location 15

NASA Independent Verification and Validation Facility (NASA IV&V), 100 University Drive, Fairmont, WV 26554.

Location 16

Office of Inspector General, Post of Duty, 402 E. State Street, Suite 3036, Trenton, NJ 08608.

Location 17

Office of Inspector General, Western Field Office, Glenn Anderson Federal Building, 501 West Ocean Blvd., Long Beach, CA 90802-4222.

Location 18

NASA Shared Services Center (NSSC), Building 5100, Stennis Space Center, MS 39529-6000.

Appendix B

Standard Routine Uses—NASA

The following routine uses of information contained in Systems of Records (SORs), subject to the Privacy Act of 1974, are standard for many NASA systems. They are cited by reference in the paragraph “Routine uses of records maintained in the system, including categories of users and the purpose of such uses” of the Federal Register Notice on those systems to which they apply.

Standard Routine Use No. 1—Law Enforcement

In the event this SOR indicates a violation or potential violation of law, whether civil, criminal, or regulatory in nature, and whether arising by general statute or particular program statute, or by regulation, rule or order issued pursuant thereto, the relevant records in the SOR may be referred, as a routine use, to the appropriate agency, whether Federal, State, local or foreign, charged with the responsibility of investigating or prosecuting such violation or charged with enforcing or implementing the statute, or rule, regulation or order issued pursuant thereto.

Standard Routine Use No. 2—Disclosure When Requesting Information

A record from this SOR may be disclosed as a “routine use” to a Federal, State, or local agency maintaining civil, criminal, or other relevant enforcement information or other pertinent information, such as current licenses, if necessary to obtain information relevant to an agency decision concerning the hiring or retention of an employee, the issuance of a security clearance, the letting of a contract, or the issuance of a license, grant, or other benefit.

Standard Routine Use No. 3—Disclosure of Requested Information

A record from this SOR may be disclosed to a Federal agency, in response to its request, in connection with the hiring or retention of an employee, the issuance of a security clearance, the reporting of an investigation of an employee, the letting of a contract, or the issuance of a license, grant, or other benefit by the requesting agency, to the extent that the information is relevant and necessary to the requesting agency's decision on the matter.

Standard Routine Use No. 4—Disclosure to the Department of Justice for Use in Litigation

A record from this SOR may be disclosed to the Department of Justice when (a) the Agency, or any component thereof; or (b) any employee of the Agency in his or her official capacity; or (c) any employee of the Agency in his or her individual capacity where the Department of Justice or the Agency has agreed to represent the employee; or (d) the United States, where the Agency determines that litigation is likely to affect the Agency or any of its components, is a party to litigation or has an interest in such litigation, and the use of such records by the Department of Justice or the Agency is deemed by the Agency to be relevant and necessary to the litigation provided, however, that in each case it has been determined that the disclosure is compatible with the purpose for which the records were collected.

Standard Routine Use 5—Routine Use for Agency Disclosure in Litigation

It shall be a routine use of the records in this SOR to disclose them in a proceeding before a court or adjudicative body before which the agency is authorized to appear, when: (a) The Agency, or any component thereof; or (b) any employee of the Agency in his or her official capacity; or (c) any employee of the Agency in his or her individual capacity where the Agency has agreed to represent the employee; or (d) the United States, where the Agency determines that litigation is likely to affect the Agency or any of its components, is a party to litigation or has an interest in such litigation, and the use of such records by the Agency is deemed to be relevant and necessary to the litigation, provided, however, that in each case, the Agency has determined that the disclosure is compatible with the purpose for which the records were collected.

Standard Routine Use No. 6—Suspected or Confirmed Confidentiality Compromise

A record from this SOR may be disclosed to appropriate agencies, entities, and persons when (1) NASA suspects or has confirmed that the security or confidentiality of information in the SOR has been compromised; (2) NASA has determined that as a result of the suspected or confirmed compromise there is a risk of harm to economic or property interests, identity theft or fraud, or harm to the security or integrity of this system or other systems or programs (whether maintained by NASA or another agency or entity) that rely upon the compromised information; and (3) the disclosure made to such agencies, entities, and persons is reasonably necessary to assist in connection with NASA's efforts to respond to the suspected or confirmed compromise and prevent, minimize, or remedy such harm.

[FR Doc. E9-4079 Filed 2-25-09; 8:45 am]

BILLING CODE 7510-13-P